DEPARTMENT OF THE TREASURY

Alcohol and Tobacco Tax and Trade Bureau

27 CFR Part 9

[Docket No. TTB-2010-0005; Notice No. 108]

RIN 1513-AB55

Proposed Establishment of the Antelope Valley of the California High Desert Viticultural Area

AGENCY: Alcohol and Tobacco Tax and Trade Bureau, Treasury.

ACTION: Notice of proposed rulemaking.

SUMMARY: The Alcohol and Tobacco Tax and Trade Bureau proposes to establish the 665-square mile “Antelope Valley of the California High Desert” viticultural area in Los Angeles and Kern Counties, California. We designate viticultural areas to allow vintners to better describe the origin of their wines and to allow consumers to better identify wines they may purchase. We invite comments on this proposed addition to our regulations.

DATES: We must receive written comments on or before November 1, 2010.

ADDRESSES: You may send comments on this notice to one of the following addresses:

• http://www.regulations.gov (Federal e-rulemaking portal; follow the instructions for submitting comments);

• U.S. Mail: Director, Regulations and Rulings Division, Alcohol and Tobacco Tax and Trade Bureau, P.O. Box 14412, Washington, DC 20044-4412; or

• Hand Delivery/Courier in Lieu of Mail: Alcohol and Tobacco Tax and Trade Bureau, 1310 G Street, NW., Suite 200-E, Washington, DC 20005.

See the Public Participation section of this notice for specific instructions and requirements for submitting comments, and for information on how to request a public hearing.

You may view copies of this notice, selected supporting materials, and any comments we receive about this proposal at http://www.regulations.gov within Docket No. TTB-2010-0005. A direct link to this docket is posted on the TTB Web site at http://www.ttb.gov/wine/wine_rulemaking.shtml under Notice No. 108. You also may view copies of this notice, all related petitions, maps or other supporting materials, and any comments we receive about this proposal by appointment at the TTB Information Resource Center, 1310 G Street, NW., Washington, DC 20220. Please call 202-453-2270 to make an appointment.

FOR FURTHER INFORMATION CONTACT: N.A. Sutton, Regulations and Rulings Division, Alcohol and Tobacco Tax and Trade Bureau, 925 Lakeville St., No. 158, Petaluma, CA 94952; telephone 415-271-1254.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act requires that these regulations, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographic features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Antelope Valley of the California High Desert Petition

Mr. Ralph Jens Carter, on behalf of the Antelope Valley Winegrowers Association, proposes to establish the Antelope Valley of the California High Desert viticultural area. The proposed viticultural area covers 665 square miles, and lies in inland southern California, approximately 50 miles north of the Los Angeles metropolitan area. TTB notes that the proposed viticultural area is not within, does not contain, and does not overlap any existing or currently proposed viticultural area. In 2007, the proposed viticultural area included 128 planted acres in 16 commercial vineyards, and 2 bonded wineries, according to a listing in the petition exhibits.

The distinguishing features of the proposed Antelope Valley of the California High Desert viticultural area are climate, geology, geography, and soils, according to the petition. The Antelope Valley is surrounded by mountains on three sides and by a desert on the other side; it has an arid climate, desert soils, and a valley geomorphology.

History of Agriculture and Viticulture in the Antelope Valley

For an estimated 11,000 years, various cultures have populated the Antelope Valley region, according to the petitioner. Native American tribes, traveling north from what is now Arizona and New Mexico, used the valley as a trade route.

In the 1880s and early 1890s, Antelope Valley had ample rainfall and available surface water for farming. When settlers needed irrigation for farming, they initially used water from mountain streams, but eventually they dug wells into underground water reservoirs.

The petition states that early viticulture in the Antelope Valley area consisted of two growers in Lancaster (“Directory of the Grape Growers and Winemakers in California,” Compiled by Clarence J. Wetmore, Secretary of the Board of State Viticulture Commissioners, 1888). By 1893, viticulture in the area grew to 239 acres of vines, 6.5 acres of wine grapes, and 8 growers (“Vineyards of Southern California,” E.C. Bichowsky, California Board of State Viticultural Commissioners, 1893).

A drought in 1894 and Prohibition (1919-1933) ended viticulture in Antelope Valley, according to the petition. However, in the early 20th century water supplies for general farming in the valley became dependable as gasoline engines and electric pumps came into use. In 1913, the Los Angeles Aqueduct, extending from Owens Valley in southeastern California to Los Angeles, was built. Bordering the north side of Antelope Valley, it also helped revive the agricultural economy in the valley. Viticulture restarted in 1981, when Steve Godde planted 5 acres to grapevines on the west side of the valley.

Name Evidence

The name “Antelope Valley of the California High Desert” combines the name recognition of the valley and the California high desert area into a single geographic descriptor, according to the petitioner. The modifier “California High Desert” distinguishes the proposed viticultural area from other places in California and elsewhere also called “Antelope Valley;” it is commonly used by area inhabitants to distinguish and identify the Antelope Valley located in the high desert in southeastern California. According to the Geographic Names Information System (GNIS) maintained by the USGS, the “Antelope Valley” name identifies 35 geographical locations in 10 States, including 9 locations in California.

The petition contains several documents and citations that refer to the “Antelope Valley” in Los Angeles and Kern Counties, as follows: The USGS 1974 photorevised Little Buttes Quadrangle; the 1977 Geologic Map of California, compiled by Charles W. Jennings; the 2005 DeLorme Southern and Central California Atlas and Gazetteer; the California Air Resources Board Web site; and the 2001 California State Automobile Association (CSAA) Coast and Valley edition. The petition also includes excerpts of the 2006 Antelope Valley AT&T telephone directory listing more than 80 entities—businesses, churches, and health care providers, a college, a high school district, and a chamber of commerce—with “Antelope Valley” in their names.

References to the “High Desert” in the proposed viticultural area name include an excerpt from the 2006 Antelope Valley AT&T telephone directory, according to the petition. The telephone directory lists 25 entities in the subject Antelope Valley area—businesses, health care providers, a school, a church, and a hospital—with “High Desert” in their names.

Also of relevance, Antelope Valley is described as “Medium to high desert of California and southern Nevada” in the “Sunset Western Garden Book” (Kathleen Norris Brenzel, editor, eighth edition, January 2007, Sunset Publishing Corporation, Menlo Park, California), which is discussed in more detail below.

Boundary Evidence

The Antelope Valley region is a wedge-shaped portion of the western Mojave Desert, according the petitioner. The north and west sides of the wedge border the Tehachapi Mountains; the south side, the San Gabriel Mountains, the Sierra Pelona Mountains, and Portal Ridge. The east side is an open continuation of the Mojave Desert.

The boundary line for the proposed Antelope Valley of the California High Desert viticultural area defines an area in the greater Antelope Valley region. The proposed viticultural area has similar climate, geology, geography, and soils. These geographical features are distinct from the areas outside of the proposed viticultural area.

The proposed north boundary line is defined by a portion of the Los Angeles Aqueduct, streets, elevation lines, a trail, the southwest perimeter of the Edwards Air Force Base (AFB), and a series of stairstep section lines. The proposed east boundary line is defined by a section line. The proposed south boundary line is defined by elevation lines and a portion of the California Aqueduct system, which runs along the foothills of the surrounding mountains. The proposed west boundary line is defined by a portion of the Los Angeles Aqueduct. No part of Edwards AFB lies within the proposed viticultural area.

Distinguishing Features

The distinguishing features of the proposed Antelope Valley of the California High Desert viticultural area include climate, geology, geography, and soils, according to the petition.

Climate

The petition states that, in most years, summers in the Antelope Valley are hot and dry and winters are relatively cold (Soil Survey of the Antelope Valley Area, California, 1970, U.S. Department of Agriculture, Soil Conservation Service, in cooperation with the University of California Agricultural Experiment Station). Annual precipitation in the valley ranges from 4 to 9 inches, with little or no snow. The growing season is 240 to 260 days long. The table below summarizes the climate data presented in the petition for the Antelope Valley and the surrounding areas. The data are discussed in the text below.

Annual Precipitation, Growing Season Length, Winter Low Temperatures, Sunset Climate Zone, and Winkler Climate Region for Antelope Valley and the Surrounding Areas
Location | Antelope Valley: Within | North: Tehachapi Mountains | East: Victorville and Edwards AFB | Southeast: San Gabriel Mountains transitioning to higher elevations | South central: San Gabriel Mountains, lower elevations | Southwest: San Gabriel Mountains, higher elevations | West: Sandberg
Annual precipitation (in.) | 4-9 | 12-20 | 1.4-5 | 10-20 | 10-20 | 9-20 | 14-16
Growing season (days) | 240-260 | 50-100 | 215-235 | 170-190 | 220-240 | 100-150 | 50-100
Sunset climate zone *. | 11 | 1A | 10 | 7 | 18 | 2A | 1A
Winkler region/degree days ** | V (4,600) | No Data | V (4,900) | No Data | No Data | No Data | III (3,370)
* See the “Sunset Western Garden Book” (Brenzel), discussed below.
** See “General Viticulture” (Winkler), discussed below.

Hot summers, cold winters, and widely varying daily temperatures characterize the climate in the Antelope Valley, according to the petition. On average, 110 days a year have high temperatures above 90 degrees F, but nights are mild. The growing season extends from mid-March to early November. Winter low temperatures range from 6 to 11 degrees F.

In the mountainous areas to the south, west, and north of the Antelope Valley, summers are cool and winters are cold, according to the petition. To the west, in addition to the mountainous region, are areas of lower elevation terrain with a longer and warmer growing season conducive to successful viticulture. Annual precipitation is 9 to 20 inches, significantly more than the 4 to 9 inches of precipitation in the valley; consequently, it increases the groundwater supply in the valley. The growing season in the mountains ranges from 50 to 240 days, but in the proposed viticultural area is 240 to 260 days.

Northeast of the proposed viticultural area lies Edwards AFB, for which climate data related to agriculture or viticulture is limited, according to the petition. To the southeast, in an Antelope Valley-Mojave Desert transition zone, summers are hot; winters are mild with neither severe cold nor high humidity. The growing season of this transition zone is 170 to 190 days—shorter than that in the Antelope Valley.

There are 24 climate zones within the continental western United States, according to the “Sunset Western Garden Book” (Brenzel). Sunset climate zones are based on factors such as winter minimum temperatures, summer high temperatures, length of the growing season, humidity, and rainfall patterns. These factors are determined by latitude, elevation, ocean proximity and influence, continental air, hills and mountains, and local terrain. Sunset climate zone 1 is the harshest cold weather, and Sunset climate zone 24, the mildest.

The Antelope Valley lies in Sunset climate zone 11, “Medium to high desert of California and southern Nevada,” according to the petition. Areas 11 miles or less to the north, west, and south of the Antelope Valley are in different Sunset climate zones. The Tehachapi Mountains, to the north, and Sandberg, to the west, are in Sunset climate zone 1A, “Coldest mountains and intermountain areas throughout the contiguous states and southern British Columbia.” Winter low temperatures are 0 to 11 degrees F. The growing season in this zone generally lasts from end of May to the first part of September, and summers are mild. To the south, in the higher elevations of the San Gabriel Mountains, lies Sunset climate zone 2A, “Cold Mountain and Inter-Mountain” Areas.” Winter low temperatures are 10 to 20 degrees F.

In the lower-elevation areas of the San Gabriel Mountains south of the Antelope Valley lies Sunset climate zone 18, “Above and below the thermal belts in Southern California's interior valleys.” The growing season can extend from the end of March to late November. Winter low temperatures average between 7 and 22 degrees F. This area is an intermediate zone where the Antelope Valley transitions to the part of the San Gabriel Mountains in Sunset climate zone 2A.

Southeast of the Antelope Valley, where the San Gabriel Mountains transition to higher elevations, lies Sunset climate zone 7, “California's Gray Pine Belt.” The growing season, from late April to early October, extends from 170 to 190 days. Summers are hot, and winters are mild. Winter low temperatures average between 26 to 35 degrees F.

The area to the east of the Antelope Valley, near Victorville and Edwards AFB, lies in Sunset climate zone 10, “High desert areas of Arizona and New Mexico.” This zone includes the part of the Mojave Desert near the California-Nevada border. The growing season, early April to November, averages 225 days. Winter low temperatures average between 22 to 25 degrees F.

The Winkler climate classification system uses heat accumulation during the growing season to define climatic regions for viticulture (“General Viticulture,” by Albert J. Winkler, University of California Press, 1974, pp. 61-64). As a measurement of heat accumulation during the growing season, 1 degree day accumulates for each degree Fahrenheit that a day's mean temperature is above 50 degrees, the minimum temperature required for grapevine growth. Climatic region I has less than 2,500 growing degree days per year; region II, 2,501 to 3,000; region III, 3,001 to 3,500; region IV, 3,501 to 4,000; and region V, 4,001 or more.

The proposed Antelope Valley of the California High Desert viticultural area has an annual average heat accumulation of 4,600 degree days and therefore is in Winkler climate region V, according to the petition. The areas to the east, also in Winkler region V, have a greater annual heat accumulation (4,900 degree days) but a shorter growing season (215 to 235 days) compared to the proposed viticultural area. Sandberg, to the west of the Antelope Valley, is in Winkler region III. Most mountainous areas surrounding the Antelope Valley are not assigned to a Winkler climate region because they are too cold to support commercial viticulture.

Geology

Geology has influenced the topography of the Antelope Valley, the surrounding mountains, and the neighboring desert, according to the petition. The distinguishing geologic features of the proposed viticultural area are valley fill, alluvial soils, diverging fault lines, and relatively young rocks.

The topography of the Mojave Desert of California, of which the Antelope Valley is a part, varies from fault scarps and playas to surrounding hills and mountains. Valley fill is thickest in the Antelope Valley, in the westernmost part of the Mojave Desert.

The Antelope Valley region is a geologically old basin that more recent alluvium has filled. Intermittent and ephemeral streams drain into two playas within the basin: Rosamond and Rogers Dry Lakes (U.S. Department of Agriculture, Soil Conservation Service). The valley landform resulted from a depression at the intersection of diverging fault lines from branches of the Garlock and San Andreas Faults. The valley's steep vertical relief evolved from a strike slip on the San Andreas Fault or an associated, branching fault.

The relatively young age of the alluvial fill within the proposed viticultural area contrasts with the age of rocks in the surrounding areas, according to the petition. The rocks in the Antelope Valley region date primarily to the Cenozoic Era (65.5 million years ago to recent). The alluvial fill is Quaternary (2 million years ago to recent). Surrounding the Antelope Valley region, the rocks generally date to the Cretaceous Period (65 to 136 million years ago), the Jurassic Period (136 to 190 million years ago), and the Triassic Period (190 to 225 million years ago).

Plutonic rocks are predominant in the mountainous areas surrounding the proposed viticultural area boundary line. They include crystalline, granite, quartz diorite, quartz monzonite, and granodiorite. These rocks, the granite and diorite granite rocks in particular, weathered to form mainly consolidated and unconsolidated, mostly nonmarine alluvium on the valley floor. However, Oso Canyon, at the western tip of the valley, is a sedimentary bed dating to the Miocene epoch (about 23 to 5 million years ago).

Geography

The terrain of the proposed Antelope Valley of the California High Desert viticultural area is characterized by significant uniformity and continuity, according to the petition. Slopes are level or nearly level on the valley floor, but range to gently sloping to moderately sloping on rises at the upper elevations of the terraces and alluvial fans. And, although the proposed viticultural area is approximately 52 miles wide, elevation varies only 838 feet, as shown on the USGS maps. The elevation of the surrounding mountains varies from that of the valley by approximately 450 to 4,900 feet, as shown on the USGS maps and the table below.

Elevation of Locations in the Antelope Valley and Surrounding Areas
Location | Area | Distance from proposed viticultural area (mi.) | Direction from proposed viticultural area | Elevation (feet)
Antelope Valley | Greater Antelope Valley region | 0 | Within | 2,300 to 3,100.
Double Mountain | Tehachapi Mountains | 10.5 | North | 7,981.
Soledad Mountain | Rosamond Hills | 2 | North | 4,500.
Silver Peak | Shadow Mountains | 16 | East | 4,043.
Burnt Peak | Liebre Mountains | 6 | South | 5,888.
Mount McDill | Sierra Pelona Range | 6.25 | South | 5,187.
Pine Peak | Liebre Mountains | 2.25 | West | 3,555.

Soils

The proposed Antelope Valley of the California High Desert viticultural area lies on the western rim of an old alluvial basin with interior drainage by intermittent and ephemeral streams (U.S. Department of Agriculture, Soil Conservation Service). The proposed boundary line closely follows the highest elevations of the alluvial fans and terraces of the basin.

The soils in the Antelope Valley formed in alluvium weathered from granite and other rocks in the surrounding mountains, according to the petition. They are very deep loamy fine sand to loam and silty clay. The soils are well drained and well aerated in the root zone. They are mineral rich, and fertility is low to moderate. The available water capacity ranges from 5 to 12 inches.

The predominant soils in the proposed viticultural area are the Hesperia-Rosamond-Cajon, Adelanto, Arizo, and Hanford-Ramona-Greenfield associations. These soils formed in alluvium derived from granitic rock on alluvial fans and terraces. Generally, they vary in drainage, slope, elevation, and natural vegetation.

The Hesperia-Rosamond-Cajon association consists of moderately well drained to excessively drained soils on 0 to 15 percent slopes. Elevations range from 2,400 to 2,900 feet. Natural vegetation includes annual grasses, forbs [wild flowers], Joshua tree, Mormon tea, rabbit brush, and large sagebrush.

The Adelanto association consists of well drained soils on 0 to 5 percent slopes. Elevations range from 2,450 to 2,800 feet. Natural vegetation consists of annual grasses and forbs and in some areas desert stipa, sagebrush, creosote bush, Joshua tree, and juniper.

The Arizo association consists of excessively well drained soils on 0 to 5 percent slopes. Elevations range from 2,950 to 3,100 feet. Natural vegetation includes annual grasses, forbs, creosote bush, Mormon tea, and rabbit brush.

The Hanford-Ramona-Greenfield association consists of well drained soils on 0 to 30 percent slopes. Elevations range from 2,600 to 3,900 feet. Natural vegetation includes annual grasses and forbs and, in scattered areas, juniper.

Unlike the soils in the Antelope Valley, the soils on the surrounding uplands are generally shallow, excessively well drained, coarse sandy loam, and available water capacity is 1.5 to 7 inches. Included with the soils in the Antelope Valley are saline soils in small, scattered areas within the proposed viticultural area. Outside the proposed viticultural area, near Rosamond and Rogers Lakes, saline soils appear as larger areas. TTB notes that saline soils are not suitable for agriculture, including viticulture.

TTB Determination

TTB concludes that the petition to establish the 665-square mile “Antelope Valley of the California High Desert” viticultural area merits consideration and public comment, as invited in this notice.

Boundary Description

See the narrative boundary description of the petitioned-for viticultural area in the proposed regulatory text published at the end of this notice.

Maps

The petitioner provided the required maps, and we list them below in the proposed regulatory text.

Impact on Current Wine Labels

Part 4 of the TTB regulations prohibits any label reference on a wine that indicates or implies an origin other than the wine's true place of origin. If we establish this proposed viticultural area, its name, “Antelope Valley of the California High Desert,” will be recognized as a name of viticultural significance under 27 CFR 4.39(i)(3). The text of the proposed regulation clarifies this point.

Therefore, the proposed part 9 regulatory text set forth in this document specifies “Antelope Valley of the California High Desert” as terms of viticultural significance for purposes of part 4 of the TTB regulations. If this proposed regulatory text is adopted as a final rule, wine bottlers using “Antelope Valley of the California High Desert” in a brand name, including a trademark, or in another label reference as to the origin of the wine, will have to ensure that the product is eligible to use “Antelope Valley of the California High Desert” as an appellation of origin.

For a wine to be labeled with a viticultural area name or with a brand name that includes a viticultural area name or other term identified as being viticulturally significant in part 9 of the TTB regulations, at least 85 percent of the wine must be derived from grapes grown within the area represented by that name or other term, and the wine must meet the other conditions listed in 27 CFR 4.25(e)(3). If the wine is not eligible for labeling with the viticultural area name or other viticulturally significant term and that name or term appears in the brand name, then the label is not in compliance and the bottler must change the brand name and obtain approval of a new label. Similarly, if the viticultural area name or other term of viticultural significance appears in another reference on the label in a misleading manner, the bottler would have to obtain approval of a new label. Accordingly, if a previously approved label uses the name “Antelope Valley of the California High Desert” for a wine that does not meet the 85 percent standard, the previously approved label will be subject to revocation upon the effective date of the approval of the Antelope Valley of the California High Desert viticultural area.

Different rules apply if a wine has a brand name containing a viticultural area name or other viticulturally significant term that was used as a brand name on a label approved before July 7, 1986. See 27 CFR 4.39(i)(2) for details.

Public Participation

Comments Invited

We invite comments from interested members of the public on whether we should establish the proposed Antelope Valley of the California High Desert viticultural area. We are interested in receiving comments on the sufficiency and accuracy of the name, boundary, climate, soils, and other required information submitted in support of the petition. Please provide any available specific information in support of your comments.

Because of the potential impact of the establishment of the proposed Antelope Valley of the California High Desert viticultural area on wine labels that include the name “Antelope Valley of the California High Desert” as discussed above under Impact on Current Wine Labels, we are particularly interested in comments regarding whether there will be a conflict between this name and currently used brand names. If a commenter believes that a conflict will arise, the comment should describe the nature of that conflict, including any negative economic impact that approval of the proposed viticultural area will have on an existing viticultural enterprise. We are also interested in receiving suggestions for ways to avoid any conflicts, for example, by adopting a modified or different name for the viticultural area.

Submitting Comments

You may submit comments on this notice by using one of the following three methods:

• Federal e-Rulemaking Portal: You may send comments via the online comment form posted with this notice in Docket No. TTB-2010-0005 on “Regulations.gov,” the Federal e-rulemaking portal, at http://www.regulations.gov. A direct link to that docket is available under Notice No. 108 on the TTB Web site at http://www.ttb.gov/wine/wine_rulemaking.shtml. Supplemental files may be attached to comments submitted via Regulations.gov. For complete instructions on how to use Regulations.gov, visit the site and click on “User Guide” under “How to Use this Site.”

• U.S. Mail: You may send comments via postal mail to the Director, Regulations and Rulings Division, Alcohol and Tobacco Tax and Trade Bureau, P.O. Box 14412, Washington, DC 20044-4412.

• Hand Delivery/Courier: You may hand-carry your comments or have them hand-carried to the Alcohol and Tobacco Tax and Trade Bureau, 1310 G Street, NW., Suite 200-E, Washington, DC 20005.

Please submit your comments by the closing date shown above in this notice. Your comments must reference Notice No. 108 and include your name and mailing address. Your comments also must be made in English, be legible, and be written in language acceptable for public disclosure. We do not acknowledge receipt of comments, and we consider all comments as originals.

If you are commenting on behalf of an association, business, or other entity, your comment must include the entity's name as well as your name and position title. If you comment via http://www.regulations.gov, please enter the entity's name in the “Organization” blank of the comment form. If you comment via mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

On the Federal e-rulemaking portal, Regulations.gov, we will post, and you may view, copies of this notice, selected supporting materials, and any electronic or mailed comments we receive about this proposal. A direct link to the Regulations.gov docket containing this notice and the posted comments received on it is available on the TTB Web site at http://www.ttb.gov/wine/wine_rulemaking.shtml under Notice No. 108. You may also reach the docket containing this notice and the posted comments received on it through the Regulations.gov search page at http://www.regulations.gov.

All posted comments will display the commenter's name, organization (if any), city, and State, and, in the case of mailed comments, all address information, including e-mail addresses. We may omit voluminous attachments or material that we consider unsuitable for posting.

You also may view copies of this notice, all related petitions, maps and other supporting materials, and any electronic or mailed comments we receive about this proposal by appointment at the TTB Information Resource Center, 1310 G Street, NW., Washington, DC 20220. You may also obtain copies at 20 cents per 8.5- x 11-inch page. Contact our information specialist at the above address or by telephone at 202-453-2270 to schedule an appointment or to request copies of comments or other materials.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

Drafting Information

N.A. Sutton of the Regulations and Rulings Division drafted this notice.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.__ to read as follows:

§ 9.__ Antelope Valley of the California High Desert.

(a) Name. The name of the viticultural area described in this section is “Antelope Valley of the California High Desert”. For purposes of part 4 of this chapter, “Antelope Valley of the California High Desert” is a term of viticultural significance.

(b) Approved maps. The 20 United States Geological Survey 1:24,000 scale topographic maps used to determine the boundary of the Antelope Valley of the California High Desert viticultural area are titled:

(1) Rosamond Quadrangle, California, 1973;

(2) Rosamond Lake Quadrangle, California, 1973;

(3) Redman Quadrangle, California, 1992;

(4) Rogers Lake South Quadrangle, California, 1992;

(5) Alpine Butte Quadrangle, California-Los Angeles Co., 1992;

(6) Hi Vista Quadrangle, California-Los Angeles Co., 1957, revised 1992;

(7) Lovejoy Buttes Quadrangle, California-Los Angeles Co., 1957, revised 1992;

(8) El Mirage Quadrangle, California, 1956, revised 1992;

(9) Littlerock Quadrangle, California-Los Angeles Co., 1957, revised 1992;

(10) Palmdale Quadrangle, California-Los Angeles Co., 1958, photorevised 1974;

(11) Ritter Ridge Quadrangle, California-Los Angeles Co., 1958, photorevised 1974;

(12) Lancaster West Quadrangle, California-Los Angeles Co., 1958, photorevised 1974;

(13) Del Sur Quadrangle, California-Los Angeles Co., 1995;

(14) Lake Hughes Quadrangle, California-Los Angeles Co., 1995;

(15) Fairmont Butte Quadrangle, California, 1995;

(16) Neenach School Quadrangle, California, 1995;

(17) Tylerhorse Canyon Quadrangle, California-Kern Co., 1995;

(18) Willow Springs Quadrangle, California-Kern Co., 1965, photorevised 1974;

(19) Little Buttes Quadrangle, California, 1965, photorevised 1974; and

(20) Soledad Mtn. Quadrangle, California-Kern Co., 1973.

(c) Boundary. The Antelope Valley of the California High Desert viticultural area is located in Los Angeles and Kern Counties, California. The boundary of the Antelope Valley of the California High Desert viticultural area is as described below:

(1) The beginning point is on the Rosamond map at the intersection of the Kern and Los Angeles Counties boundary line and the Edwards Air Force Base (AFB), boundary line, T8N, R12W. From the beginning point, proceed south along the Edwards AFB boundary line to BM 2297, T8N, R12W; then

(2) Proceed generally east along the Edwards AFB boundary line, crossing over the Rosamond Lake and Redman maps onto the Rogers Lake South map, to the 2,500-foot elevation line along the section 30 north boundary line, T8N, R9W; then

(3) Proceed southwest along the 2,500-foot elevation line, crossing over the Redman map onto the Alpine Butte map, where the elevation line changes to a southeast direction, and continues onto the Hi Vista map to the line's intersection with J Avenue, T7N, R9W; then

(4) Proceed straight east along J Avenue 0.2 mile to the intersection of the section 20 northeast corner and 160th St. E, T7N, R9W; then

(5) Proceed straight south along 160th St. E to the section 33 northwest corner, T7N, R9W; then

(6) Proceed in a clockwise direction along the section 33 north and east boundary lines to the section 3 northwest corner at the marked 2,585-foot elevation point, T6N, R9W; then

(7) Proceed in a clockwise direction along the section 3 north and east boundary lines to the section 11 northwest corner, T6N, R9W; then

(8) Proceed in a clockwise direction along the section 11 north and east boundary lines, crossing onto the Lovejoy Buttes map, to the section 13 northwest corner, T6N, R9W; then

(9) Proceed in a clockwise direction along the section 13 north and east boundary lines, continuing south to the section 30 northwest corner, T6N, R8W; then

(10) Proceed in a clockwise direction along the section 30 north and east boundary lines, continuing south to the section 32 northwest boundary line, T6N, R8W; then

(11) Proceed in a clockwise direction, crossing onto the El Mirage map, along the section 32 north and east boundary lines, continuing south on the section 8 east boundary line to the line's intersection with the 3,100-foot elevation line, T5N, R8W; then

(12) Proceed west-southwest along the 3,100-foot elevation line, crossing over the Lovejoy Buttes map onto the Littlerock map, and continuing to the line's intersection with the California Aqueduct, about 0.25 mile south of Pearlblossom Highway, section 22, T5N, R10W; then

(13) Proceed generally north, northwest, and west along the California Aqueduct, crossing over the Palmdale, Ritter Ridge, Lancaster West, Del Sur, Lake Hughes, and Fairmont Butte maps, onto the Neenach School map, to the aqueduct's intersection with the Pacific Crest National Scenic Trail and the Los Angeles Aqueduct in section 16, T8N, R16W; then

(14) Proceed north and northeast along the Pacific Crest National Scenic Trail and the Los Angeles Aqueduct as the aqueduct crosses over the Fairmont Butte map onto the Tylerhorse map to the 3,120-foot, marked elevation point at the West Antelope Station, section 3, T9N, R15W; then

(15) Proceed east-northeast along the Los Angeles Aqueduct (the Pacific Crest National Scenic Trail forks to the west at the 3,120-foot marked elevation point), crossing onto the Willow Springs map, to the aqueduct's intersection with Tehachapi Willow Springs Road, section 7, T10N, R13W; then

(16) Proceed southeast and south on Tehachapi Willow Springs Road, crossing onto the Little Buttes map, to the road's intersection with the 2,500-foot elevation line, section 17 west boundary line, T9N, R13W; then

(17) Proceed east and northeast along the 2,500-foot elevation line, crossing over the Willow Springs map and continuing onto the Soledad Mtn. map, where that line crosses over and back three times from the Rosamond map, to the line's intersection with the Edwards AFB boundary line, section 10, T9N, R12W; and then

(18) Proceed straight south along the Edwards AFB boundary line, crossing over to the Rosamond map, to the beginning point.

Signed: August 23, 2010.
John J. Manfreda,
Administrator.

[FR Doc. 2010-21989 Filed 9-1-10; 8:45 am]

BILLING CODE 4810-31-P